SECURITIES AND EXCHANGE COMMISSION

[ File No. 500-1]

Xytos, Inc.; Order of Suspension of Trading

March 6, 2013.

It appears to the Securities and Exchange Commission that there is a lack of current and accurate information concerning the securities of Xytos, Inc. (“Xytos”) because of questions regarding the adequacy and accuracy of information Xytos publicly disseminates concerning the company's financial conditions and business operations, and because of potentially manipulative conduct in the trading of Xytos shares.

The Commission is of the opinion that the public interest and the protection of investors require a suspension of trading in the securities of the above-listed company.

Therefore, it is ordered, pursuant to Section 12(k) of the Securities Exchange Act of 1934, that trading in the securities of the above-listed company is suspended for the period from 9:30 a.m. EST on March 6, 2013 through 11:59 p.m. EDT on March 19, 2013.

By the Commission.
Lynn M. Powalski,
Deputy Secretary.

[FR Doc. 2013-05567 Filed 3-7-13; 11:15 am]

BILLING CODE 8011-01-P